Proclamation 8186 of October 4, 2007

Columbus Day, 2007

By the President of the United States of America

A Proclamation

In 1492, Christopher Columbus set sail on a journey that changed the course of history. On Columbus Day, we celebrate this voyage of discovery and honor an Italian explorer who shaped the destiny of the New World.

Christopher Columbus' bold journey across the Atlantic opened new frontiers of exploration and demonstrated the power of perseverance. His journeys inspired other risk-takers and dreamers to test the bounds of their imagination and gave them the courage to accomplish great feats, whether crossing the world's oceans or walking on the moon. Today, a new generation of innovators and pioneers continues to uphold the finest values of our country—discipline, ingenuity, and unity in the pursuit of great goals.

As we look back on the contributions of the great explorer from Genoa, we also celebrate the many contributions that generations of Italian Americans have made to our Nation. Their service to America and ties to family, faith, and community have strengthened our country and enriched our culture.

In commemoration of Columbus' journey, the Congress, by joint resolution of April 30, 1934, and modified in 1968 (36 U.S.C. 107), as amended, has requested that the President proclaim the second Monday of October of each year as “Columbus Day.”

NOW, THEREFORE, I, GEORGE W. BUSH, President of the United States of America, do hereby proclaim October 8, 2007, as Columbus Day. I call upon the people of the United States to observe this day with appropriate ceremonies and activities. I also direct that the flag of the United States be displayed on all public buildings on the appointed day in honor of Christopher Columbus.

IN WITNESS WHEREOF, I have hereunto set my hand this fourth day of October, in the year of our Lord two thousand seven, and of the Independence of the United States of America the two hundred and thirty-second.

[FR Doc. 07-5007

Filed 10-5-07; 8:55 am]

Billing code 3195-01-P